DEPARTMENT OF TRANSPORTATION

Office of the Secretary

[Docket No. DOT-OST-2010-0054]

RIN 2105-ADO4

Application To Renew Information Collection Request OMB No. 2105-0551

AGENCY: Office of the Secretary (OST), Department of Transportation (Department).

ACTION: Notice and request for comments.

SUMMARY: In compliance with the Paperwork Reduction Act of 1995 (44 U.S.C. Chapter 35, as amended), the Department of Transportation's Office of the Secretary is forwarding the Information Collection Request (ICR) described below to the Office of Management and Budget (OMB) for approval. The ICR describes the nature of the information and the expected burden. OST published a Federal Register notice with a 60-day comment period soliciting comments on the following collection of information on April 16, 2015. The purpose of this notice is to allow the public an additional 30 days from the date of this notice to submit comments to the recently published application to renew ICR 2105-0551, “Reporting Requirements for Disability-Related Complaints.”

DATES: Comments on this notice must be received by November 23, 2015.

ADDRESSES: Your comments should be identified by Docket No. DOT-OST-2015-0083 and should be submitted through one of the following methods:

• Office of Management and Budget, Attention: Desk Officer for U.S. Department of Transportation, Office of the Secretary of Transportation, 725 17th Street NW., Washington, DC 20503.

• Email: oira_submission@omb.eop.gov.

• Fax: (202) 395-5806.

FOR FURTHER INFORMATION CONTACT: Maegan Johnson, Office of the General Counsel, Office of the Secretary, U.S. Department of Transportation, 1200 New Jersey Avenue SE., Washington, DC 20590, 202-366-9342 (Voice), 202-366-7152 (Fax), or maegan.johnson@dot.gov (Email). Arrangements to receive this document in an alternative format may be made by contacting the above-named individuals.

SUPPLEMENTARY INFORMATION: The Paperwork Reduction Act of 1995 (PRA) and its implementing regulations, 5 CFR part 1320, require Federal agencies to issue two notices seeking public comment on information collection activities before OMB may approve paperwork packages. 44 U.S.C. 3506, 3507; 5 CFR 1320.5, 1320.8(d)(1), 1320.12. On April 16, 2015, OST published a 60-day notice in the Federal Register soliciting comment on ICRs for which the agency was seeking OMB approval. See 80 FR 20554. OST received no comments after issuing this notice. Accordingly, the Department has not made any changes to its anticipated burden hours for the respondents to comply with these requirements. The Department announces that these information collection activities have been re-evaluated and certified under 5 CFR. 1320.5(a) and is forwarding to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983 (Aug. 29, 1995). OMB believes that the 30-day notice informs the regulated community to file relevant comments and affords the agency adequate time to digest public comments before it renders a decision. 60 FR 44983 (Aug. 29, 1995). Therefore, respondents should submit their respective comments to OMB within 30 days of publication to best ensure their full consideration. 5 CFR 1320.12(c); see also 60 FR 44983 (Aug. 29, 1995). The summaries below describe the nature of the ICR and the expected burden.

Title: Reporting Requirements for Disability-Related Complaints.

OMB Control Number: 2105-0551.

Type of Request: Renewal of Information Collection Request.

Background: On July 8, 2003, the Office of the Secretary published a final rule that requires certificated U.S. and foreign air carriers operating to, from and within the U.S. that conduct passenger-carrying service utilizing at least one large aircraft to record complaints that they receive alleging inadequate accessibility or discrimination on the basis of disability. The carriers must also categorize these complaints according to the type of disability and nature of complaint, prepare a summary report annually of the complaints received during the preceding calendar year, submit the report to the Department's Aviation Consumer Protection Division, and retain copies of correspondence and records of action taken on the reported complaints for three years. The rule requires carriers to submit their annual report via the World Wide Web except if the carrier can demonstrate an undue burden by doing so and receives permission from the Department to submit it in an alternative manner. The first required report covered disability-related complaints received by carriers during calendar year 2004, which was due to the Department on January 31, 2005. Carriers have been required to submit all subsequent reports on the last Monday in January for the prior calendar year. On November 3, 2010, OMB approved information collection of disability-related complaints, “Reporting Requirements for Disability-related Complaints” through November 30, 2013. The application to renew this information collection request was published in the Federal Register on Thursday, April 16, 2015, 80 FR 20554.

Respondents: Certificated U.S. and foreign air carriers operating to, from, and within the United States that conduct passenger-carrying service with large aircraft.

Requirements | Number of respondents | Frequency (per year) | Estimated annual burden (per respondent) (hours) | Estimated total annual burden (all respondents) (hours)
Record an Categorize Complaints Received | 175 | 0 to 5,000 | 0 to 1,250 | 6,900
Prepare and Submit Annual Report | 175 | 1 | .5 | 87.5
Retain Correspondences and Record of Action Taken | 175 | 0 to 5,000 | 1 | 175

Comments are invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. All comments will also become a matter of public record.

Issued in Washington, DC, on October 14, 2015.
Patricia Lawton,
DOT PRA Clearance Officer, Office of the DOT Chief Information Officer.

[FR Doc. 2015-26950 Filed 10-21-15; 8:45 am]

BILLING CODE 4910-9X-P